DEPARTMENT OF ENERGY

Federal Energy Regulatory Commission

Notice of Commissioner and Staff Attendance at North American Electric Reliability Corporation Meetings

The Federal Energy Regulatory Commission hereby gives notice that members of the Commission and/or Commission staff may attend the following meetings:

North American Electric Reliability Corporation

Member Representatives Committee and Board of Trustees Meetings

Board of Trustees Compliance Committee and Standards Oversight and Technology Committee Meetings

JW Marriott New Orleans Hotel 614 Canal Street New Orleans, La 70130.

Nov. 6 (7:00 a.m.-5:00 p.m.) and Nov. 7 (8:00 a.m.-1:00 p.m.), 2012

Further information regarding these meetings may be found at: http://www.nerc.com/calendar.php.

The discussions at the meetings, which are open to the public, may address matters at issue in the following Commission proceedings:

Docket No. RC08-5, North American Electric Reliability Corporation

Docket No. RC11-5, North American Electric Reliability Corporation

Docket No. RR08-4, North American Electric Reliability Corporation

Docket No. RR12-8, North American Electric Reliability Corporation

Docket No. RR12-10, North American Electric Reliability Corporation

Docket No. RR12-11, North American Electric Reliability Corporation

Docket No. RR12-12, North American Electric Reliability Corporation

Docket No. RR12-13, North American Electric Reliability Corporation

Docket No. RD09-11, North American Electric Reliability Corporation

Docket No. RD10-2, North American Electric Reliability Corporation

Docket No. RD12-3, North American Electric Reliability Corporation

Docket No. RD12-5, North American Electric Reliability Corporation

Docket No. RD12-6, North American Electric Reliability Corporation

Docket No. NP11-238, North American Electric Reliability Corporation

For further information, please contact Jonathan First, 202-502-8529, or jonathan.first@ferc.gov.

Dated: October 23, 2012.
Kimberly D. Bose,
Secretary.

[FR Doc. 2012-26594 Filed 10-29-12; 8:45 am]

BILLING CODE 6717-01-P